DEPARTMENT OF ENERGY

Federal Energy Regulatory Commission

Combined Notice of Filings

Take notice that the Commission has received the following Natural Gas Pipeline Rate and Refund Report filings:

Filings Instituting Proceedings

Docket Numbers: RP21-1187-000.

Applicants: Eastern Gas Transmission and Storage, Inc.

Description: Motion Filing: EGTS—Rate Case Motion Filing to be effective 4/1/2022.

Filed Date: 3/31/22.

Accession Number: 20220331-5012.

Comment Date: 5 p.m. ET 4/12/22.

Docket Numbers: RP22-729-000.

Applicants: Natural Gas Pipeline Company of America LLC.

Description: § 4(d) Rate Filing: Negotiated Rate Agreement Filing—Morgan Stanley Capital Group to be effective 4/1/2022.

Filed Date: 3/30/22.

Accession Number: 20220330-5060.

Comment Date: 5 p.m. ET 4/11/22.

Docket Numbers: RP22-730-000.

Applicants: Natural Gas Pipeline Company of America LLC.

Description: § 4(d) Rate Filing: Negotiated Rate Agreements Filing—Sempra Gas & Power Marketing, LLC to be effective 4/1/2022.

Filed Date: 3/30/22.

Accession Number: 20220330-5062.

Comment Date: 5 p.m. ET 4/11/22.

Docket Numbers: RP22-731-000.

Applicants: Natural Gas Pipeline Company of America LLC.

Description: § 4(d) Rate Filing: Negotiated Rate Agreements Filing—Union Electric Company d/b/a Ameren Missouri to be effective 4/1/2022.

Filed Date: 3/30/22.

Accession Number: 20220330-5063.

Comment Date: 5 p.m. ET 4/11/22.

Docket Numbers: RP22-732-000.

Applicants: Columbia Gas Transmission, LLC.

Description: § 4(d) Rate Filing: Antero Negotiated Rate Agreement—176700_13 to be effective 4/1/2022.

Filed Date: 3/30/22.

Accession Number: 20220330-5134.

Comment Date: 5 p.m. ET 4/11/22.

Docket Numbers: RP22-733-000.

Applicants: Northern Border Pipeline Company.

Description: § 4(d) Rate Filing: Negotiated Rate Agreement—Sequent TL373F/101326 to be effective 4/1/2022.

Filed Date: 3/30/22.

Accession Number: 20220330-5143.

Comment Date: 5 p.m. ET 4/11/22.

Docket Numbers: RP22-734-000.

Applicants: Natural Gas Pipeline Company of America LLC.

Description: § 4(d) Rate Filing: Negotiated Rate Agreements Filing—Eco-Energy Natural Gas, LLC to be effective 4/1/2022.

Filed Date: 3/30/22.

Accession Number: 20220330-5163.

Comment Date: 5 p.m. ET 4/11/22.

Docket Numbers: RP22-735-000.

Applicants: Columbia Gas Transmission, LLC.

Description: § 4(d) Rate Filing: United Energy FSS—263830 v.0 NR Agreement to be effective 4/1/2022.

Filed Date: 3/30/22.

Accession Number: 20220330-5167.

Comment Date: 5 p.m. ET 4/11/22.

Docket Numbers: RP22-736-000.

Applicants: Alliance Pipeline L.P.

Description: § 4(d) Rate Filing: Negotiated Rates—Various Apr 1 2022 Capacity Releases to be effective 4/1/2022.

Filed Date: 3/31/22.

Accession Number: 20220331-5009.

Comment Date: 5 p.m. ET 4/12/22.

Docket Numbers: RP22-737-000.

Applicants: Millennium Pipeline Company, LLC.

Description: § 4(d) Rate Filing: Negotiated Rate Amds—SWN, DTE to be effective 4/1/2022.

Filed Date: 3/31/22.

Accession Number: 20220331-5011.

Comment Date: 5 p.m. ET 4/12/22.

Docket Numbers: RP22-738-000.

Applicants: Gulf South Pipeline Company, LLC.

Description: Compliance filing: Compliance Tariff Filing to Docket No. CP22-1-000 to be effective 5/1/2022. 3/31/22.

Accession Number: 20220331-5016.

Comment Date: 5 p.m. ET 4/12/22.

Docket Numbers: RP22-739-000.

Applicants: Wyoming Interstate Company, L.L.C.

Description: § 4(d) Rate Filing: Transportation Agreement Filing (Sequent Replacment TSA) to be effective 4/1/2022.

Filed Date: 3/31/22.

Accession Number: 20220331-5018.

Comment Date: 5 p.m. ET 4/12/22.

Docket Numbers: RP22-740-000.

Applicants: Kinetica Energy Express, LLC.

Description: § 4(d) Rate Filing: Negotiated Rate Agreement to be effective 4/1/2022.

Filed Date: 3/31/22.

Accession Number: 20220331-5019.

Comment Date: 5 p.m. ET 4/12/22.

Docket Numbers: RP22-741-000.

Applicants: Equitrans, L.P.

Description: § 4(d) Rate Filing: Update Initial Retainage Rate 4-1-2022 to be effective 4/1/2022.

Filed Date: 3/31/22.

Accession Number: 20220331-5021.

Comment Date: 5 p.m. ET 4/12/22.

Docket Numbers: RP22-742-000.

Applicants: East Tennessee Natural Gas, LLC.

Description: § 4(d) Rate Filing: 2022 ETNG Fuel Filing to be effective 5/1/2022.

Filed Date: 3/31/22.

Accession Number: 20220331-5022.

Comment Date: 5 p.m. ET 4/12/22.

Docket Numbers: RP22-743-000.

Applicants: El Paso Natural Gas Company, L.L.C.

Description: § 4(d) Rate Filing: Negotiated Rate Agreement Update (Conoco Apr 22) to be effective 4/1/2022.

Filed Date: 3/31/22.

Accession Number: 20220331-5023.

Comment Date: 5 p.m. ET 4/12/22.

Docket Numbers: RP22-744-000.

Applicants: Panhandle Eastern Pipe Line Company, LP.

Description: Compliance filing: Flow Through of Cash-Out Revenues filed on 3-31-22 to be effective 5/1/2022.

Filed Date: 3/31/22.

Accession Number: 20220331-5024.

Comment Date: 5 p.m. ET 4/12/22.

Docket Numbers: RP22-745-000.

Applicants: Panhandle Eastern Pipe Line Company, LP.

Description: Compliance filing: Flow Through of Penalty Revenues Report filed 3-31-22 to be effective N/A.

Filed Date: 3/31/22.

Accession Number: 20220331-5025.

Comment Date: 5 p.m. ET 4/12/22.

Docket Numbers: RP22-746-000.

Applicants: Equitrans, L.P.

Description: § 4(d) Rate Filing: Negotiated Rate Agreements—4/1/2022 to be effective 4/1/2022.

Filed Date: 3/31/22.

Accession Number: 20220331-5027.

Comment Date: 5 p.m. ET 4/12/22.

Docket Numbers: RP22-747-000.

Applicants: El Paso Natural Gas Company, L.L.C.

Description: § 4(d) Rate Filing: Negotiated Rate Agreement Update (EOG Apr 22) to be effective 4/1/2022.

Filed Date: 3/31/22.

Accession Number: 20220331-5028.

Comment Date: 5 p.m. ET 4/12/22.

Docket Numbers: RP22-748-000.

Applicants: Hardy Storage Company, LLC.

Description: § 4(d) Rate Filing: RAM 2022 to be effective 5/1/2022.

Filed Date: 3/31/22.

Accession Number: 20220331-5030.

Comment Date: 5 p.m. ET 4/12/22.

Docket Numbers:. RP22-749-000.

Applicants: Pine Needle LNG Company, LLC.

Description: § 4(d) Rate Filing: 2022 Annual Fuel and Electric Power Tracker Filing to be effective 5/1/2022.

Filed Date: 3/31/22.

Accession Number: 20220331-5034.

Comment Date: 5 p.m. ET 4/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1187-006.

Applicants: Eastern Gas Transmission and Storage, Inc.

Description: Submits tariff filing per 154.203: EGTS—Rate Case Motion Filing (Revised Tariff Records) to be effective 4/1/2022.

Filed Date: 03/31/2022.

Accession Number: 20220331-5013.

Comment Date: 5 p.m. ET 4/12/22.

Docket Numbers: RP22-716-001.

Applicants: Rockies Express Pipeline LLC.

Description: Compliance filing: REX 2022-03-28 RP22-716 Amendment to be effective N/A.

Filed Date: 3/28/22.

Accession Number: 20220328-5180.

Comment Date: 5 p.m. ET 4/11/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2022.
Kimberly D. Bose,
Secretary.

[FR Doc. 2022-07279 Filed 4-5-22; 8:45 am]

BILLING CODE 6717-01-P